ENVIRONMENTAL PROTECTION AGENCY

40 CFR Part 131

[EPA-HQ-OW-2018-0056; FRL-9989-46-OW]

Extension of Public Comment Period for Water Quality Standards; Establishment of a Numeric Criterion for Selenium for the State of California

AGENCY: Environmental Protection Agency (EPA).

ACTION: Notice; extension of comment period.

SUMMARY: The Environmental Protection Agency (EPA) is extending the comment period for the proposed rule “Water Quality Standards; Establishment of a Numeric Criterion for Selenium for the State of California” for an additional 45 days, from February 11, 2019, to March 28, 2019. The EPA will offer virtual public hearings on the proposed rule via the internet on March 19, 2019, and March 20, 2019. The EPA is taking this action in order to ensure the public comment period remains open to accommodate the public hearings, originally scheduled for January 29, 2019, and January 30, 2019, and rescheduled due to the recent federal government shutdown. This extension is necessary to comply with public notice requirements.

DATES: Comments must be received on or before March 28, 2019.

ADDRESSES: Comments: Submit your comments, identified by Docket ID No. EPA-HQ-OW-2018-0056, at https://www.regulations.gov (our preferred method), or the other methods identified at https://www.epa.gov/dockets/commenting-epa-dockets. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA generally will not consider comments or comment contents located outside of the primary submission (i.e., on the web, cloud, or other file sharing system). For additional submission methods, the full EPA public comment policy, information about CBI or multimedia submissions, and general guidance on making effective comments, please visit https://www.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at two Docket Facilities. The Office of Water (OW) Docket Center is open from 8:30 a.m. until 4:30 p.m., Monday through Friday, excluding legal holidays. The Docket telephone number is (202) 566-2426 and the Docket address is OW Docket Center, WJC West Building, Room 3334, 1301 Constitution Ave. NW, Washington, DC 20004. The Public Reading Room is open from 8:30 a.m. to 4:30 p.m., Monday through Friday, excluding legal holidays. The telephone number for the Public Reading Room is (202) 566-1744.

Public Hearings: The EPA is offering two online public hearings so that interested parties may provide oral comments on this proposed rulemaking. For more details on the public hearings and a link to register, please visit https://www.epa.gov/wqs-tech/water-quality-standards-establishment-numeric-criterion-selenium-fresh-waters-california.

FOR FURTHER INFORMATION CONTACT: Danielle Anderson, Office of Water, Standards and Health Protection Division (4305T), U.S. Environmental Protection Agency, 1200 Pennsylvania Avenue NW, Washington, DC 20460; telephone number: (202) 564-1631; email address: Anderson.Danielle@epa.gov; or Diane E. Fleck, P.E., Esq., Water Division (WTR-2-1), U.S. Environmental Protection Agency Region 9, 75 Hawthorne Street, San Francisco, CA 94105; telephone number: (415) 972-3527; email address: Fleck.Diane@EPA.gov.

SUPPLEMENTARY INFORMATION: On December 13, 2018, the Environmental Protection Agency (EPA) published the proposed rule, “Water Quality Standards; Establishment of a Numeric Criterion for Selenium for the State of California” in the Federal Register (83 FR 64059). The EPA is proposing to establish a federal Clean Water Act (CWA) selenium water quality criterion applicable to California that protects aquatic life and aquatic-dependent wildlife in the fresh waters of California.

The original deadline to submit comments on the proposed rule was February 11, 2019, and the public hearings were originally scheduled for January 29, 2019, and January 30, 2019. This action extends the comment period for 45 days. Due to the recent federal government shutdown, the public hearings have been rescheduled for March 19, 2019, and March 20, 2019, and written comments must now be received by March 28, 2019. Under CWA section 303(c)(1) and the EPA's regulation at 40 CFR 131.20, states and authorized tribes are required to hold public hearings when revising water quality standards. When preparing for or conducting such public hearings, states and authorized tribes must comply with the EPA's public hearing requirements at 40 CFR 25.5. Under 40 CFR 131.22(c), when the EPA promulgates a federal water quality standard for a state, it must comply with the same procedures established for states and authorized tribes. These provisions include requirements for providing at least 45 days advance notice of a public hearing. This public comment period is extended in order to accommodate complying with the public hearing requirements and to ensure the public comment period remains open to accommodate the rescheduled public hearings. Notice of the rescheduled public hearings was posted on the EPA's website on January 30, 2019 at https://www.epa.gov/wqs-tech/water-quality-standards-establishment-numeric-criterion-selenium-fresh-waters-california.

The EPA will offer virtual public hearings on the proposed rule via the internet on Tuesday, March 19, 2019, from 9:00 a.m.-11:00 a.m. Pacific Time and Wednesday, March 20, 2019, from 4:00 p.m.-6:00 p.m. Pacific Time. For details on these public hearings, as well as registration information, please visit https://www.epa.gov/wqs-tech/water-quality-standards-establishment-numeric-criterion-selenium-fresh-waters-california.

Dated: February 6, 2019.
David P. Ross,
Assistant Administrator, Office of Water.

[FR Doc. 2019-02072 Filed 2-11-19; 8:45 am]

BILLING CODE 6560-50-P